SECURITIES AND EXCHANGE COMMISSION

Issuer Delisting; Notice of Application of DepoMed, Inc., To Withdraw its Common Stock, No Par Value From Listing and Registration on the American Stock Exchange LLC File No. 1-13111

December 17, 2003.

DepoMed, Inc., a California corporation (“Issuer”), has filed an application with the Securities and Exchange Commission (“Commission”), pursuant to section 12(d) of the Securities Exchange Act of 1934 (“Act”)¹ and Rule 12d2-2(d) thereunder,² to withdraw its common stock, no par value (“Security”), from listing and registration on the American Stock Exchange LLC (“Amex” or “Exchange”).

¹ 15 U.S.C. 78l(d).

² 17 CFR 240.12d2-2(d).

The Board of Directors (“Board”) of the Issuer unanimously approved a resolution on December 5, 2003 to withdraw the Issuer's Security from listing on the Amex and list to list the Security on the Nasdaq National Market System (“Nasdaq NMS”). The Board states that it considered the following reasons in its decision to withdraw the Security from listing and registration on the Amex: (i) the Board believes that it would be in the best interest of the Issuer and its shareholders that the Security be listed for trading on the Nasdaq NMS in order to improve the trading volume and liquidity of the Security that may be obtained through increased investor awareness afforded by the Nasdaq NMS; and (ii) the Board believes that there is no advantage to listing the Security on both Amex and the Nasdaq NMS and that it is, therefore, in the best interests of the Issuer and its shareholders to delist the Security from the Amex.

The Issuer stated in its application that it has met the requirements of Amex Rule l8 by complying with all applicable laws in California, in which it is incorporated, and with the Amex's rules governing an issuer's voluntary withdrawal of a security from listing and registration.

The Issuer's application relates solely to the withdrawal of the Securities from listing on the Amex and from registration under section 12(b) of the Act ³ and shall not affect its obligation to be registered under section 12(g) of the Act.⁴

³ 15 U.S.C. 781(b).

⁴ 15 U.S.C. 781(g).

Any interested person may, on or before January 9, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority. ⁵
⁵ 17 CFR 200.30-3(a)(1).
Jonathan G. Katz,
Secretary.

[FR Doc. 03-31548 Filed 12-22-03; 8:45 am]

BILLING CODE 8010-01-P